DEPARTMENT OF COMMERCE

National Oceanic and Atmospheric Administration

50 CFR Part 679

[Docket No. 120918468-2468-01]

RIN 0648-XC254

Fisheries of the Exclusive Economic Zone Off Alaska; Gulf of Alaska; Proposed 2013 and 2014 Harvest Specifications for Groundfish

AGENCY: National Marine Fisheries Service (NMFS), National Oceanic and Atmospheric Administration (NOAA), Commerce.

ACTION: Proposed rule; request for comments.

SUMMARY: NMFS proposes 2013 and 2014 harvest specifications, apportionments, and Pacific halibut prohibited species catch limits for the groundfish fishery of the Gulf of Alaska (GOA). This action is necessary to establish harvest limits for groundfish during the 2013 and 2014 fishing years and to accomplish the goals and objectives of the Fishery Management Plan for Groundfish of the Gulf of Alaska. The intended effect of this action is to conserve and manage the groundfish resources in the GOA in accordance with the Magnuson-Stevens Fishery Conservation and Management Act.

DATES: Comments must be received by January 4, 2013.

ADDRESSES: You may submit comments on this document, identified by NOAA-NMFS-2012-0180, by any one of the following methods:

• Electronic Submissions: Submit all electronic public comments via the Federal e-Rulemaking Portal at www.regulations.gov. To submit comments via the e-Rulemaking Portal, first click the “submit a comment” icon, then enter NOAA-NMFS-2012-0180 in the keyword search. Locate the document you wish to comment on from the resulting list and click on the “Submit a Comment” icon on that line.

• Mail: Address written comments to Glenn Merrill, Assistant Regional Administrator, Sustainable Fisheries Division, Alaska Region NMFS, Attn: Ellen Sebastian. Mail comments to: P.O. Box 21668, Juneau, AK 99802-1668.

• Fax: Address written comments to Glenn Merrill, Assistant Regional Administrator, Sustainable Fisheries Division, Alaska Region NMFS, Attn: Ellen Sebastian. Fax comments to: (907) 586-7557.

• Hand delivery to the Federal Building: Address written comments to Glenn Merrill, Assistant Regional Administrator, Sustainable Fisheries Division, Alaska Region NMFS, Attn: Ellen Sebastian. Deliver comments to 709 West 9th Street, Room 420A, Juneau, AK.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address) submitted voluntarily by the sender will be publicly accessible.

Do not submit confidential business information, or otherwise sensitive or protected information. NMFS will accept anonymous comments (enter “N/A” in the required fields if you wish to remain anonymous). Attachments to electronic comments will be accepted in Microsoft Word or Excel, WordPerfect, or Adobe PDF file formats only.

Electronic copies of the Alaska Groundfish Harvest Specifications Final Environmental Impact Statement (Final EIS), Supplementary Information Report (SIR) to the EIS, and the Initial Regulatory Flexibility Analysis (IRFA) prepared for this action may be obtained from http://www.regulations.gov or from the Alaska Region Web site at http://alaskafisheries.noaa.gov. The final 2011 Stock Assessment and Fishery Evaluation (SAFE) report for the groundfish resources of the GOA, dated November 2011, is available from the North Pacific Fishery Management Council (Council) at 605 West 4th Avenue, Suite 306, Anchorage, AK 99501, phone 907-271-2809, or from the Council's Web site at http://alaskafisheries.noaa.gov/npfmc. The draft 2012 SAFE report for the GOA is available from the same source.

FOR FURTHER INFORMATION CONTACT: Obren Davis, 907-586-7228.

SUPPLEMENTARY INFORMATION: NMFS manages the GOA groundfish fisheries in the exclusive economic zone (EEZ) of the GOA under the Fishery Management Plan for Groundfish of the Gulf of Alaska (FMP). The Council prepared the FMP under the authority of the Magnuson-Stevens Fishery Conservation and Management Act (Magnuson-Stevens Act), 16 U.S.C. 1801, et seq. Regulations governing U.S. fisheries and implementing the FMP appear at 50 CFR parts 600, 679, and 680.

The FMP and its implementing regulations require NMFS, after consultation with the Council, to specify the total allowable catch (TAC) limits for each target species, the sum of which must be within the optimum yield (OY) range of 116,000 to 800,000 metric tons (mt). Section 679.20(c)(1) further requires NMFS to publish and solicit public comment on proposed annual TACs, halibut prohibited species catch (PSC) limits, and seasonal allowances of pollock and Pacific cod. The proposed harvest specifications in Tables 1 through 20 of this document satisfy these requirements. For 2013 and 2014, the sum of the proposed TAC amounts is 447,752 mt.

Under § 679.20(c)(3), NMFS will publish the final 2013 and 2014 harvest specifications after (1) considering comments received within the comment period (see DATES), (2) consulting with the Council at its December 2012 meeting, and (3) considering information presented in the Final EIS (see ADDRESSES) and the final 2012 SAFE report prepared for the 2013 and 2014 groundfish fisheries.

Other Actions Potentially Affecting the 2013 and 2014 Harvest Specifications

Halibut Prohibited Species Catch Limits Revisions

At its June 2012 meeting, the Council took final action to reduce halibut PSC limits in the GOA trawl and hook-and-line groundfish fisheries. The Council's preferred alternative for Amendment 95 to the GOA FMP would change the process for setting halibut PSC limits. Halibut PSC limits would be established in Federal regulations and would remain in effect until changed by a subsequent Council action to amend those regulations.

If approved by the Secretary of Commerce, Amendment 95 would reduce the GOA halibut PSC limit for the groundfish trawl gear sector and groundfish catcher vessel (CV) hook-and-line gear sector by 15 percent. The Council's proposed reduction would be phased in over 3 years: 7 percent in year 1, 5 percent in year 2 (to 12 percent), and 3 percent in year 3 (for a total of 15 percent). The Council's proposed reduction for the catcher/processor (C/P) hook-and-line gear sector would be 7 percent, which would be implemented in one step in year 1. The Council used 1,973 mt as the baseline for the proposed trawl halibut PSC limit reductions. This is based on a deduction of 27 mt from the 2,000 mt trawl halibut PSC limit, per halibut PSC limit reductions made in conjunction with the implementation of the Central Gulf of Alaska Rockfish Program in 2011 (76 FR 81248, December 27, 2011). The Council recommended that the first year of implementation would occur in 2014 and that all reductions would occur by 2016.

Amendment 95 would result in a new trawl sector halibut PSC limit of 1,848 mt (in 2014), 1,759 mt (in 2015), and 1,705 mt (in 2016 and later years). The hook-and-line sector halibut PSC limits may vary annually, as these limits are based on how the Pacific cod TAC is annually apportioned between the Central and Western regulatory areas of the GOA. Based on 2012 Pacific cod TACs in the Western and Central GOA the hook-and-line C/P sector would receive a 109 mt halibut PSC limit. The hook-and-line CV sector PSC limit would be 161 mt (in 2014), 152 mt (in 2015), and 147 mt (in 2016 and later years).

Proposed Acceptable Biological Catch (ABC) and TAC Specifications

In October 2012, the Council, its Scientific and Statistical Committee (SSC), and its Advisory Panel (AP) reviewed the most recent biological and harvest information about the condition of groundfish stocks in the GOA. This information was compiled by the GOA Groundfish Plan Team and presented in the final 2011 SAFE report for the GOA groundfish fisheries, dated November 2011 (see ADDRESSES). The amounts proposed for the 2013 and 2014 ABCs are based on the 2011 SAFE report, as discussed below. The AP and Council recommended that the proposed 2013 and 2014 TACs be set equal to proposed ABCs for all species and species groups, with the exception of the species categories further discussed below. The proposed ABCs and TACs could be changed in the final harvest specifications depending on the most recent scientific information contained in the final 2012 SAFE report. The SAFE report contains a review of the latest scientific analyses and estimates of each species' biomass and other biological parameters, as well as summaries of the available information on the GOA ecosystem and the economic condition of the groundfish fisheries off Alaska. From these data and analyses, the Plan Team estimates an OFL and ABC for each species or species group.

In November 2012, the Plan Team updated the 2011 SAFE report to include new information collected during 2012, such as NMFS stock surveys, revised stock assessments, and catch data. The Plan Team compiled this information and produced the draft 2012 SAFE report for presentation at the December 2012 Council meeting. At that meeting, the Council will consider information in the draft 2012 SAFE report, recommendations from the November 2012 Plan Team meeting and December 2012 SSC and AP meetings, public testimony, and relevant written public comments in making its recommendations for the final 2013 and 2014 harvest specifications. Pursuant to section 3.2.3.4.1 of the FMP, the Council could recommend adjusting the TACs if “warranted on the basis of bycatch considerations, management uncertainty, or socioeconomic considerations, or if required in order to cause the sum of the TACs to fall within the OY range.”

In previous years, the largest changes from the proposed to the final harvest specifications have been for OFLs and ABCs based on the most recent NMFS stock surveys, which provide updated estimates of stock biomass and spatial distribution, and changes to the models used for making stock assessments. NMFS scientists presented updated and new survey results, changes to assessment models, and accompanying stock estimates at the September 2012 Plan Team meeting, and the SSC reviewed this information at the October 2012 Council meeting. The species with possible model changes are Pacific cod, rex sole, dover sole, rock sole, sharks, and octopus. In November 2012, the Plan Team considered updated stock assessments for groundfish, which were included in the draft 2012 SAFE report.

If the draft 2012 SAFE report indicates that the stock biomass trend is increasing for a species, then the final 2013 and 2014 harvest specifications for that species may reflect an increase from the proposed harvest specifications. The draft 2012 SAFE reports indicate that the biomass trend for octopuses may be increasing. Conversely, if the draft 2012 SAFE report indicates that the stock biomass trend is decreasing for a species, then the final 2013 and 2014 harvest specifications may reflect a decrease from the proposed harvest specifications. The draft 2012 SAFE reports indicate that the biomass trend for pollock, Pacific cod, sablefish, northern rockfish, other rockfish, and dusky rockfish may be decreasing. The biomass trends for the following species are relatively stable: shallow-water flatfish, deep-water flatfish, rex sole, arrowtooth flounder, flathead sole, Pacific ocean perch, shortraker rockfish, rougheye rockfish, rougheye rockfish, demersal shelf rockfish, thornyhead rockfish, Atka mackerel, big skate, longnose skates, other skates, squids, sharks, and sculpins.

The proposed ABCs and TACs are based on the best available biological and socioeconomic information, including projected biomass trends, information on assumed distribution of stock biomass, and revised methods used to calculate stock biomass. The FMP specifies the formulas, or tiers, to be used to compute ABCs and OFLs. The formulas applicable to a particular stock or stock complex are determined by the level of reliable information available to the fisheries scientists. This information is categorized into a successive series of six tiers to define OFL and ABC amounts, with tier one representing the highest level of information quality available and tier six representing the lowest level of information quality available.

The SSC adopted the proposed 2013 and 2014 OFLs and ABCs recommended by the Plan Team for all groundfish species. The Council adopted the SSC's OFL and ABC recommendations and the AP's TAC recommendations. These amounts are unchanged from the final 2013 harvest specifications published in the Federal Register on March 14, 2012 (77 FR 15194).

Specification and Apportionment of TAC Amounts

The Council recommended proposed 2013 and 2014 TACs that are equal to proposed ABCs for all species and species groups, with the exception of Pacific cod, shallow-water flatfish, arrowtooth flounder, flathead sole, other rockfish, and Atka mackerel. The Pacific cod TACs are set to accommodate the State of Alaska's (State) guideline harvest levels (GHL) for Pacific cod so that the ABCs are not exceeded. The flathead sole, shallow-water flatfish, and arrowtooth flounder TACs are set to conserve the halibut PSC limit for use in other fisheries. The other rockfish TAC is set to reduce the potential amount of discards in the Southeast Outside (SEO) District. The Atka mackerel TAC is set to accommodate incidental catch amounts of this species in other directed fisheries.

The ABC for the pollock stock in the combined Western, Central, and West Yakutat Regulatory Areas (W/C/WYK) has been adjusted to reflect the GHL established by the State for the Prince William Sound (PWS) pollock fishery since its inception in 1995. Genetic studies revealed that the pollock in PWS was not a separate stock from the combined W/C/WYK population. Accordingly, the Council recommended decreasing the W/C/WYK pollock ABC to account for the State's PWS GHL. For 2013 and 2014, the PWS GHL for pollock is 2,770 mt, per the recommendation of State of Alaska fisheries managers.

The apportionment of annual pollock TAC among the Western and Central Regulatory Areas of the GOA reflects the seasonal biomass distribution and is discussed in greater detail below. The annual pollock TAC in the Western and Central Regulatory Areas of the GOA is apportioned among Statistical Areas 610, 620, and 630, and divided equally among each of the following four seasons: the A season (January 20 through March 10), the B season (March 10 through May 31), the C season (August 25 through October 1), and the D season (October 1 through November 1) (§ 679.23(d)(2)(i) through (iv), and § 679.20(a)(5)(iv)(A) and (B)). Table 2 lists these amounts.

The AP, SSC, and Council recommended apportionment of the ABC for Pacific cod in the GOA among regulatory areas based on the three most recent NMFS summer trawl surveys. The proposed 2013 and 2014 Pacific cod TACs are affected by the State's GHL fishery for Pacific cod in State waters in the Western and Central Regulatory Areas, as well as in PWS. The Plan Team, SSC, AP, and Council recommended that the sum of all State and Federal water Pacific cod removals from the GOA not exceed ABC recommendations. Accordingly, the Council recommended reducing the proposed 2013 and 2014 Pacific cod TACs from the proposed ABCs for the Eastern, Central, and Western Regulatory Areas to account for State GHLs. Therefore, the proposed 2013 and 2014 Pacific cod TACs are less than the proposed ABCs by the following amounts: (1) Eastern GOA, 683 mt; (2) Central GOA, 14,788 mt; and (3) Western GOA, 7,280 mt. These amounts reflect the sum of the State's 2013 and 2014 GHLs in these areas, which are 25 percent of the Eastern, Central, and Western GOA proposed ABCs. These are the same percentage amounts used to apportion the Pacific cod ABCs to State waters GHLs that were used in 2012.

NMFS also is proposing seasonal apportionments of the annual Pacific cod TACs in the Western and Central Regulatory Areas. Sixty percent of the annual TAC is apportioned to the A season for hook-and-line, pot, or jig gear from January 1 through June 10, and for trawl gear from January 20 through June 10. Forty percent of the annual TAC is apportioned to the B season for jig gear from June 10 through December 31, for hook-and-line or pot gear from September 1 through December 31, and for trawl gear from September 1 through November 1 (§§ 679.23(d)(3) and 679.20(a)(12)).

The Council's recommendation for sablefish area apportionments also takes into account the prohibition on the use of trawl gear in the SEO District of the Eastern Regulatory Area and makes available five percent of the combined Eastern Regulatory Area TACs to trawl gear for use as incidental catch in other directed groundfish fisheries in the WYK District (§ 679.20(a)(4)(i)). Tables 4 and 5 list these amounts.

The sum of the proposed TACs for all GOA groundfish is 447,752 mt for 2013 and 2014, which is within the OY range specified by the FMP. The sums of the proposed 2013 and 2014 TACs are higher than the final 2012 TACs currently specified for the GOA groundfish fisheries (77 FR 15194, March 14, 2012). The proposed 2013 and 2014 TACs for pollock, Pacific cod, flathead sole, and rougheye rockfish are higher than the final 2012 TACs for these species. The proposed 2013 and 2014 TACs for sablefish, shallow-water flatfish, rex sole, Pacific ocean perch, northern rockfish, and pelagic shelf rockfish are lower than the final 2012 TACs for these species. The proposed 2013 and 2014 TACs are equal to the final 2012 TACs for the remaining species.

For 2013 and 2014, the Council recommended and NMFS proposes the OFLs, ABCs and TACs listed in Table 1. The proposed ABCs reflect harvest amounts that are less than the specified overfishing levels. The sum of the proposed 2013 and 2014 ABCs for all assessed groundfish is 612,506 mt, which is higher than the final 2012 ABC total of 606,048 mt (77 FR 15194, March 14, 2012).

Table 1 lists the proposed 2013 and 2014 OFLs, ABCs, TACs, and area apportionments of groundfish in the GOA. These amounts are consistent with the biological condition of groundfish stocks as described in the 2011 SAFE report, and adjusted for other biological and socioeconomic considerations, including maintaining the total TAC within the required OY range. These proposed amounts and apportionments by area, season, and sector are subject to change pending consideration of the draft 2012 SAFE report and the Council's recommendations for the final 2013 and 2014 harvest specifications during its December 2012 meeting.

Table 1—Proposed 2013 and 2014 ABCs, TACs, and OFLs of Groundfish for the Western/Central/West Yakutat (W/C/WYK), Western (W), Central (C), Eastern (E) Regulatory Areas, and in the West Yakutat (WYK), Southeast Outside (SEO), and Gulfwide (GW) Districts of the Gulf of Alaska
[Values are rounded to the nearest metric ton]
Species | Area ¹ | OFL | ABC | TAC
Pollock ² | Shumagin (610) | n/a | 32,816 | 32,816
| Chirikof (620) | n/a | 49,662 | 49,662
| Kodiak (630) | n/a | 28,565 | 28,565
| WYK (640) | n/a | 3,517 | 3,517
| W/C/WYK (subtotal) | 155,402 | 114,560 | 114,560
| SEO (650) | 14,366 | 10,774 | 10,774
| Total | 169,768 | 125,334 | 125,334
Pacific cod ³ | W | n/a | 29,120 | 21,840
| C | n/a | 59,150 | 44,363
| E | n/a | 2,730 | 2,047
| Total | 108,000 | 91,000 | 68,250
Sablefish ⁴ | W | n/a | 1,757 | 1,757
| C | n/a | 5,686 | 5,686
| WYK | n/a | 2,219 | 2,219
| SEO | n/a | 3,132 | 3,132
| E (WYK and SEO) (subtotal) | n/a | 5,351 | 5,351
| Total | 15,129 | 12,794 | 12,794
Shallow-water flatfish ⁶ | W | n/a | 20,171 | 13,250
| C | n/a | 21,012 | 18,000
| WYK | n/a | 3,950 | 3,950
| SEO | n/a | 1,350 | 1,350
| Total | 56,781 | 46,483 | 36,550
Deep-water flatfish ⁵ | W | n/a | 176 | 176
| C | n/a | 2,308 | 2,308
| WYK | n/a | 1,581 | 1,581
| SEO | n/a | 1,061 | 1,061
| Total | 6,834 | 5,126 | 5,126
Rex sole | W | n/a | 1,283 | 1,283
| C | n/a | 6,291 | 6,291
| WYK | n/a | 821 | 821
| SEO | n/a | 1,037 | 1,037
| Total | 12,326 | 9,432 | 9,432
Arrowtooth flounder | W | n/a | 27,386 | 14,500
| C | n/a | 142,591 | 75,000
| WYK | n/a | 21,074 | 6,900
| SEO | n/a | 20,982 | 6,900
| Total | 249,066 | 212,033 | 103,300
Flathead sole | W | n/a | 15,518 | 8,650
| C | n/a | 26,205 | 15,400
| WYK | n/a | 4,623 | 4,623
| SEO | n/a | 1,735 | 1,735
| Total | 60,219 | 48,081 | 30,408
Pacific ocean perch ⁷ | W | 2,364 | 2,050 | 2,050
| C | 12,662 | 10,985 | 10,985
| WYK | n/a | 1,650 | 1,650
| SEO | n/a | 1,815 | 1,815
| E (WYK and SEO) (subtotal) | 3,995 | n/a | n/a
| Total | 19,021 | 16,500 | 16,500
Northern rockfish 8 9 | W | n/a | 2,017 | 2,017
| C | n/a | 3,136 | 3,136
| E | n/a | n/a | n/a
| Total | 6,152 | 5,153 | 5,153
Shortraker rockfish ¹¹ | W | n/a | 104 | 104
| C | n/a | 452 | 452
| E | n/a | 525 | 525
| Total | 1,441 | 1,081 | 1,081
Other rockfish 9 12 | W | n/a | 44 | 44
| C | n/a | 606 | 606
| WYK | n/a | 230 | 230
| SEO | n/a | 3,165 | 200
| Total | 5,305 | 4,045 | 1,080
Pelagic shelf rockfish ¹³ | W | n/a | 381 | 381
| C | n/a | 3,581 | 3,581
| WYK | n/a | 504 | 504
| SEO | n/a | 296 | 296
| Total | 5,822 | 4,762 | 4,762
Rougheye rockfish ¹⁰ | W | n/a | 82 | 82
| C | n/a | 861 | 861
| E | n/a | 297 | 297
| Total | 1,492 | 1,240 | 1,240
Demersal shelf rockfish ¹⁴ | SEO | 467 | 293 | 293
Thornyhead rockfish | W | n/a | 150 | 150
| C | n/a | 766 | 766
| E | n/a | 749 | 749
| Total | 2,220 | 1,665 | 1,665
Atka mackerel | GW | 6,200 | 4,700 | 2,000
Big skates ¹⁵ | W | n/a | 469 | 469
| C | n/a | 1,793 | 1,793
| E | n/a | 1,505 | 1,505
| Total | 5,023 | 3,767 | 3,767
Longnose skates ¹⁶ | W | n/a | 70 | 70
| C | n/a | 1,879 | 1,879
| E | n/a | 676 | 676
| Total | 3,500 | 2,625 | 2,625
Other skates ¹⁷ | GW | 2,706 | 2,030 | 2,030
Squids | GW | 1,530 | 1,148 | 1,148
Sharks | GW | 8,037 | 6,028 | 6,028
Octopus | GW | 1,941 | 1,455 | 1,455
Sculpins | GW | 7,641 | 5,731 | 5,731
Total |  | 756,621 | 612,506 | 447,752
¹ Regulatory areas and districts are defined at § 679.2. (W=Western Gulf of Alaska; C=Central Gulf of Alaska; E=Eastern Gulf of Alaska; WYK=West Yakutat District; SEO=Southeast Outside District; GW=Gulf-wide).
² Pollock is apportioned in the Western/Central Regulatory Areas among three statistical areas. Table 2 lists the proposed 2013 and 2014 seasonal apportionments. In the West Yakutat and Southeast Outside Districts of the Eastern Regulatory Area, pollock is not divided into seasonal allowances.
³ Section 679.20(a)(12)(i) requires the allocation of the Pacific cod TACs in the Western and Central Regulatory Areas of the GOA among gear and operational sectors. The annual Pacific cod TAC is apportioned among various sectors 60 percent to the A season and 40 percent to the B season in the Western and Central Regulatory Areas of the GOA. In the Eastern Regulatory Area of the GOA, Pacific cod is allocated 90 percent for processing by the inshore component and 10 percent for processing by the offshore component. Table 3 lists the proposed 2013 and 2014 Pacific cod seasonal apportionments.
⁴ Sablefish is allocated to hook-and-line and trawl gear in 2013 and trawl gear in 2014. Tables 4 and 5 list the proposed 2013 and 2014 allocations of sablefish TACs.
⁵ “Deep-water flatfish” means Dover sole, Greenland turbot, Kamchatka flounder, and deep-sea sole.
⁶ “Shallow-water flatfish” means flatfish not including “deep-water flatfish,” flathead sole, rex sole, or arrowtooth flounder.
⁷ “Pacific ocean perch” means Sebastes alutus.
⁸ “Northern rockfish” means Sebastes polyspinous. For management purposes the 3 mt apportionment of ABC to the WYK District of the Eastern Gulf of Alaska has been included in the slope rockfish species group.
⁹ “Other rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergray), S. diploproa (splitnose), S. saxicola (stripetail), S. miniatus (vermilion), S. reedi (yellowmouth), S. entomelas (widow), and S. flavidus (yellowtail). In the Eastern GOA only, other rockfish also includes northern rockfish, S. polyspinous.
¹⁰ “Rougheye rockfish” means Sebastes aleutianus (rougheye) and Sebastes melanostictus (blackspotted).
¹¹ “Shortraker rockfish” means Sebastes borealis.
¹² “Other rockfish” in the Western and Central Regulatory Areas and in the West Yakutat District means slope rockfish and demersal shelf rockfish. The “other rockfish” species group in the SEO District means slope rockfish.
¹³ “Pelagic shelf rockfish” means Sebastes variabilis (dusky).
¹⁴ “Demersal shelf rockfish” means Sebastes pinniger (canary), S. nebulosus (china), S. caurinus (copper), S. maliger (quillback), S. helvomaculatus (rosethorn), S. nigrocinctus (tiger), and S. ruberrimus (yelloweye).
¹⁵ “Big skate” means Raja binoculata.
¹⁶ “Longnose skate” means Raja rhina.
¹⁷ “Other skates” means Bathyraja spp.

Proposed Apportionment of Reserves

Section 679.20(b)(2) requires NMFS to set aside 20 percent of each TAC for pollock, Pacific cod, flatfish, skates, sharks, squids, sculpins, and octopuses in reserves for possible apportionment at a later date during the fishing year. In 2012, NMFS apportioned all of the reserves in the final harvest specifications. For 2013 and 2014, NMFS proposes reapportionment of all the reserves for pollock, Pacific cod, flatfish, skates, sharks, squids, sculpins, and octopuses in anticipation of the projected annual catch of these species. Table 1 reflects the apportionment of reserve amounts for these species and species groups. Each proposed TAC for the above mentioned species categories contains the full TAC recommended by the Council, since no reserve was created from the relevant species and species groups.

Proposed Apportionments of Pollock TAC Among Seasons and Regulatory Areas, and Allocations for Processing by Inshore and Offshore Components

In the GOA, pollock is apportioned by season and area, and is further allocated between inshore and offshore processing components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 through March 10, March 10 through May 31, August 25 through October 1, and October 1 through November 1, respectively.

Pollock TACs in the Western and Central Regulatory Areas of the GOA are apportioned among Statistical Areas 610, 620, and 630, pursuant to § 679.20(a)(5)(iv)(A). In the A and B seasons, the apportionments are in proportion to the distribution of pollock biomass based on the four most recent NMFS winter surveys. In the C and D seasons, the apportionments are in proportion to the distribution of pollock biomass based on the four most recent NMFS summer surveys. For 2013 and 2014, the Council recommends, and NMFS proposes, averaging the winter and summer distribution of pollock in the Central Regulatory Area for the A season and instead of using the distribution based on only the winter surveys. The average is intended to reflect the migration patterns, distribution of pollock, and the performance of the fishery in the area during the A season for 2013 and 2014. During the A season, the apportionment is based on an adjusted estimate of the relative distribution of pollock biomass of approximately 23 percent, 55 percent, and 23 percent in Statistical Areas 610, 620, and 630, respectively. During the B season, the apportionment is based on the relative distribution of pollock biomass of approximately 23 percent, 67 percent, and 10 percent in Statistical Areas 610, 620, and 630, respectively. During the C and D seasons, the apportionment is based on the relative distribution of pollock biomass of approximately 36 percent, 28 percent, and 35 percent in Statistical Areas 610, 620, and 630, respectively.

Within any fishing year, the amount by which a seasonal allowance is underharvested or overharvested may be added to, or subtracted from, subsequent seasonal allowances in a manner to be determined by the Regional Administrator (§ 679.20(a)(5)(iv)(B)). The rollover amount is limited to 20 percent of the unharvested seasonal apportionment for the statistical area. Any unharvested pollock above the 20 percent limit could be further distributed to the other statistical areas, in proportion to the estimated biomass in the subsequent season in those statistical areas (§ 679.20(a)(5)(iv)(B)). The proposed 2013 and 2014 pollock TACs in the WYK District of 3,517 mt and SEO District of 10,774 mt are not allocated by season.

Section 679.20(a)(6)(i) requires the allocation of 100 percent of the pollock TAC in all regulatory areas and all seasonal allowances to vessels catching pollock for processing by the inshore component after subtraction of pollock amounts that are projected by the Regional Administrator to be caught incidentally by, or delivered to, the offshore component engaged in directed fishing for other groundfish species. Thus, the amount of pollock available for harvest by vessels harvesting pollock for processing by the offshore component is that amount that will be taken as incidental catch during directed fishing for groundfish species other than pollock, up to the maximum retainable amounts allowed under § 679.20(e) and (f). At this time, these incidental catch amounts of pollock are unknown and will be determined during the fishing year as NMFS monitors the fishing activities in the offshore component.

Table 2 lists the proposed 2013 and 2014 seasonal biomass distribution of pollock in the Western and Central Regulatory Areas, area apportionments, and seasonal allowances. The amounts of pollock for processing by the inshore and offshore components are not shown.

Table 2—Proposed 2013 and 2014 Distribution of Pollock in the Central and Western Regulatory Areas of the Gulf of Alaska; Seasonal Biomass Distribution, Area Apportionments, and Seasonal Allowances of Annual TAC ¹
[Values are rounded to the nearest metric ton]
Season ² | Shumagin (Area 610) |  | Chirikof (Area 620) |  | Kodiak (Area 630) |  | Total
A (Jan 20-Mar 10) | 6,285 | (22.64%) | 15,202 | (54.76%) | 6,274 | (21.15%) | 27,761
B (Mar 10-May 31) | 6,285 | (22.64%) | 18,668 | (67.25%) | 2,806 | (10.11%) | 27,760
C (Aug 25-Oct 1) | 10,123 | (36.47%) | 7,896 | (28.44%) | 9,743 | (32.19%) | 27,761
D (Oct 1-Nov 1) | 10,123 | (36.47%) | 7,896 | (28.44%) | 9,743 | (32.19%) | 27,761
Annual Total ³ | 34,816 |  | 49,662 |  | 28,565 |  | 111,043
¹ Area apportionments and seasonal allowances may not total precisely due to rounding.
² As established by § 679.23(d)(2)(i) through (iv), the A, B, C, and D season allowances are available from January 20 to March 10, March 10 to May 31, August 25 to October 1, and October 1 to November 1, respectively. The amounts of pollock for processing by the inshore and offshore components are not shown in this table.
³ The WYK and SEO District pollock TACs are not allocated by season and are not included in the total pollock TACs shown in this table.

Proposed Annual and Seasonal Apportionments of Pacific Cod

Section 679.20(a)(12)(i) requires the allocation among gear and operational sectors of the Pacific cod TACs in the Western and Central Regulatory Areas of the GOA. Section 679.20(a)(6)(ii) requires the allocation between the inshore and offshore components of the Pacific cod TACs in the Eastern Regulatory Area of the GOA. NMFS allocates the proposed 2013 and 2014 Pacific cod TAC based on these sector allocations annually between the inshore and offshore components in the Eastern GOA; seasonally between vessels using jig gear, CVs less than 50 feet in length overall using hook-and-line gear, CVs equal to or greater than 50 in length overall using hook-and-line gear, C/Ps using hook-and-line gear, CVs using trawl gear, C/Ps using trawl gear, and vessels using pot gear in the Central GOA; and seasonally between vessels using jig gear, CVs using hook-and-line gear, C/Ps using hook-and-line gear, CVs using trawl gear, and vessels using pot gear in the Western GOA. The overall seasonal apportionments in the Western and Central GOA are 60 percent of the annual TAC to the A season and 40 percent of the annual TAC to the B season.

Under § 679.20(a)(12)(ii), any overage or underage of the Pacific cod allowance from the A season will be subtracted from, or added to, the subsequent B season allowance. In addition, any portion of the hook-and-line, trawl, pot, or jig sector allocations that are determined by NMFS as likely to go unharvested by a sector may be reapportioned to other sectors for harvest during the remainder of the fishery year.

Pursuant to § 679.20(a)(12)(i) NMFS proposes the allocations of the proposed 2013 and 2014 Pacific cod TACs in the Western and Central Regulatory Areas of the GOA. In accordance with the FMP, the annual jig sector allocations may increase to up to 6 percent of the annual Western and Central GOA Pacific cod TACs depending on the annual performance of the jig sector (See Table 1 of Amendment 83 to the FMP for a detailed discussion of the jig sector allocation process (76 FR 74670, December 1, 2011)). NMFS proposes that the jig sector would receive 2.5 percent of the annual Pacific cod TAC in the Western GOA. This includes a base allocation of 1.5 percent and an additional 1.0 percent because this sector harvested greater than 90 percent of its initial 2012 allocation in the Western GOA. NMFS also proposes that the jig sector would receive 2.0 percent of the annual Pacific cod TAC in the Central GOA. This also is because this sector harvested greater than 90 percent of its initial 2012 allocation in the Central GOA. The jig sector allocations are further apportioned between the A (60 percent) and B (40 percent) season. The sector allocations based on gear type, operation type, and vessel length overall are allocated the remainder of the annual Pacific cod TAC in the Western and Central GOA. These amounts are slightly less than the 2013 sector and seasonal amounts established in the final 2012 and 2013 harvest specifications (77 FR 15195, March 14, 2012), due to the proposed increase in the jig apportionments in the Western and Central GOA. Table 3 lists the seasonal apportionments and allocations of the proposed 2013 and 2014 Pacific cod TACs.

Table 3—Proposed 2013 and 2014 Seasonal Apportionments and Allocations of Pacific Cod TAC Amounts to Gear Types, Operational Types, and Vessel Length Overall in the Western and Central Gulf of Alaska and Allocations for Processing by the Inshore and Offshore Components in the Eastern Gulf of Alaska
[Values are rounded to the nearest metric ton]
Regulatory area and sector | Annual allocation (mt) | A Season: Sector % of annual non- jig TAC | A Season: Seasonal allowances (mt) | B Season: Sector % of annual non- jig TAC | B Season: Seasonal allowances (mt)
Western GOA:
Jig (2.5% of TAC) | 546 | N/A | 328 | N/A | 218
Hook-and-line CV | 298 | 0.70 | 149 | 0.70 | 149
Hook-and-line C/P | 4,216 | 10.90 | 2,321 | 8.90 | 1,895
Trawl CV | 8,177 | 27.70 | 5,898 | 10.70 | 2,278
Trawl C/P | 511 | 0.90 | 192 | 1.50 | 319
Pot CV and Pot C/P | 8,092 | 19.80 | 4,216 | 18.20 | 3,876
Total | 21,840 | 60.00 | 13,104 | 40.00 | 8,736
Central GOA:
Jig (2.0% of TAC) | 887 | N/A | 532 | N/A | 355
Hook-and-line < 50 CV | 6,348 | 9.32 | 4,050 | 5.29 | 2,298
Hook-and-line ≥ 50 CV | 2,916 | 5.61 | 2,439 | 1.10 | 477
Hook-and-line C/P | 2,219 | 4.11 | 1,785 | 1.00 | 434
Trawl CV | 18,079 | 21.13 | 9,189 | 20.45 | 8,890
Trawl C/P | 1,825 | 2.00 | 871 | 2.19 | 954
Pot CV and Pot C/P | 12,088 | 17.83 | 7,752 | 9.97 | 4,337
Total | 44,363 | 60.00 | 26,168 | 40.00 | 17,745
Eastern GOA |  | Inshore (90% of Annual TAC) |  | Offshore (10% of Annual TAC)
| 2,047 | 1,842 |  | 205

Proposed Allocations of the Sablefish TAC Amounts to Vessels Using Hook-and-Line and Trawl Gear

Section 679.20(a)(4)(i) and (ii) require allocations of sablefish TACs for each of the regulatory areas and districts to hook-and-line and trawl gear. In the Western and Central Regulatory Areas, 80 percent of each TAC is allocated to hook-and-line gear, and 20 percent of each TAC is allocated to trawl gear. In the Eastern Regulatory Area, 95 percent of the TAC is allocated to hook-and-line gear and 5 percent is allocated to trawl gear. The trawl gear allocation in the Eastern GOA may only be used to support incidental catch of sablefish in directed fisheries for other target species (§ 679.20(a)(4)(i)).

In recognition of the prohibition against trawl gear in the SEO District of the Eastern Regulatory Area, the Council recommended and NMFS proposes the allocation of 5 percent of the combined Eastern Regulatory Area sablefish TAC to trawl gear in the WYK District making the remainder of the WYK sablefish TAC available to vessels using hook-and-line gear. As a result, NMFS proposes to allocate 100 percent of the sablefish TAC in the SEO District to vessels using hook-and-line gear. This recommendation results in a proposed 2013 allocation of 268 mt to trawl gear and 5,083 mt to hook-and-line gear in the Eastern GOA. Table 4 lists the allocations of the proposed 2013 sablefish TACs to hook-and-line and trawl gear. Table 5 lists the allocations of the proposed 2014 sablefish TACs to trawl gear.

The Council recommended that the hook-and-line sablefish TAC be established annually to ensure that the Individual Fishery Quota (IFQ) fishery is conducted concurrent with the halibut IFQ fishery and is based on the most recent survey information. The Council also recommended that only the trawl sablefish TAC be established for two years so that retention of incidental catch of sablefish by trawl gear could commence in January in the second year of the groundfish harvest specifications. Since there is an annual NMFS survey and assessment for sablefish and the final harvest specifications are expected to be published before the IFQ season begins (typically, in early March), the Council recommended that the sablefish TAC be set on an annual basis so that the best and most recent scientific information could be considered in recommending the ABCs and TACs. With the exception of the trawl allocations that were provided to the Rockfish Program cooperatives, directed fishing for sablefish is closed for trawl gear for the fishing year. Also, fishing for groundfish with trawl gear is prohibited prior to January 20. Therefore, it is not likely that the sablefish allocation to trawl gear would be reached before the effective date of the final harvest specifications.

Table 4—Proposed 2013 Sablefish TAC Amounts in the Gulf of Alaska and Allocations to Hook-and-Line and Trawl Gear
[Values are rounded to the nearest metric ton]
Area/district | TAC | Hook-and-line allocation | Trawl allocation
Western | 1,757 | 1,406 | 351
Central | 5,686 | 4,549 | 1,137
West Yakutat ¹ | 2,219 | 1,951 | 268
Southeast Outside | 3,132 | 3,132 | 0
Total | 12,794 | 11,038 | 1,756
¹ The proposed trawl allocation is based on allocating 5 percent of the combined Eastern Regulatory Area (West Yakutat and Southeast Outside districts combined) sablefish TAC to trawl gear in the West Yakutat district.

Table 5—Proposed 2014 Sablefish TAC Amounts in the Gulf of Alaska and Allocation to Trawl Gear ¹
[Values are rounded to the nearest metric ton]
Area/district | TAC | Hook-and-line allocation | Trawl allocation
Western | 1,757 | n/a | 351
Central | 5,686 | n/a | 1,137
West Yakutat ² | 2,219 | n/a | 268
Southeast Outside | 3,132 | n/a | 0
Total | 12,794 | n/a | 1,756
¹ The Council recommended that harvest specifications for the hook-and-line gear sablefish Individual Fishing Quota fisheries be limited to 1 year.
² The proposed trawl allocation is based on allocating 5 percent of the combined Eastern Regulatory Area (West Yakutat and Southeast Outside districts combined) sablefish TAC to trawl gear in the West Yakutat district.

Proposed Apportionments to the Central GOA Rockfish Program

These proposed 2013 and 2014 groundfish harvest specifications for the GOA include the various fishery cooperative allocations and sideboard limitations established by the Central GOA Rockfish Program. Under the Rockfish Program, the rockfish primary species (Pacific ocean perch, northern rockfish, and pelagic shelf rockfish) are allocated to participants after deducting for incidental catch needs in other directed groundfish fisheries.

The Rockfish Program assigns quota share and cooperative quota to participants for primary and secondary species, allows a participant holding a license limitation program (LLP) license with rockfish quota share to form a rockfish cooperative with other persons, and allows holders of C/P LLP licenses to opt-out of the fishery. The Rockfish Program also has an entry level fishery for rockfish primary species for vessels using longline gear. Additionally, the Rockfish Program continues to establish sideboard limits to limit the ability of harvesters operating under the Rockfish Program from increasing their participation in other, non-Rockfish Program fisheries. Besides groundfish species, the Rockfish Program allocates a portion of the halibut PSC limit from the third season deep-water species fishery allowance for the GOA trawl fisheries to Rockfish Program participants (§ 679.81(d)). This includes 117 mt to the CV sector and 74 mt to the C/P sector.

Section 679.81(a)(2)(ii) requires allocations of 5 mt of Pacific ocean perch, 5 mt of northern rockfish, and 30 mt of pelagic shelf rockfish to the entry level longline fishery in 2013 and 2014. The allocation for the entry level longline fishery would increase incrementally each year if the catch exceeds 90 percent of the allocation of a species. The incremental increase in the allocation would continue each year until it the maximum percent of the TAC for that species. In 2012, the catch did not exceed 90 percent of any allocated rockfish species. Therefore, NMFS is not proposing an increase to the entry level longline fishery 2013 and 2014 allocations in the Central GOA. Longline gear includes hook-and-line, jig, troll, and handline gear. The remainder of the TACs for the rockfish primary species would be allocated to the CV and C/P cooperatives. Table 6 lists the allocations of the proposed 2013 and 2014 TACs for each rockfish primary species to the entry level longline fishery, the incremental increase for future years, and the maximum percent of the TAC for the entry level longline fishery.

Table 6—Proposed 2013 and 2014 Allocations of Rockfish Primary Species to the Entry Level Longline Fishery in the Central Gulf of Alaska
Rockfish primary species | Allocations of the proposed 2013 and 2014 TAC | Incremental increase per season if catch exceeds 90 percent of the allocation | Up to maximum percent of TAC
Pacific ocean perch | 5 metric tons | 5 metric tons | 1
Northern rockfish | 5 metric tons | 5 metric tons | 2
Pelagic shelf rockfish | 30 metric tons | 20 metric tons | 5

NMFS proposes allocations of rockfish primary species among various components of the Rockfish Program. Table 7 lists the proposed 2013 and 2014 allocations of rockfish in the Central GOA to the entry level longline fishery and other participants in the Rockfish Program, which include CV and C/P cooperatives. NMFS also proposes setting aside incidental catch amounts (ICAs) for other directed fisheries in the Central GOA of 900 mt of Pacific ocean perch, 125 mt of northern rockfish, and 125 mt of pelagic shelf rockfish. These amounts are based on recent average incidental catches in the Central GOA by other groundfish fisheries.

Allocations between vessels belonging to CV or C/P cooperatives are not included in these proposed harvest specifications. Rockfish Program applications for CV cooperatives, C/P cooperatives, and C/Ps electing to opt-out of the program are not due to NMFS until March 1 of each calendar year, thereby preventing NMFS from calculating 2013 and 2014 allocations in conjunction with these proposed harvest specifications. NMFS will post these allocations on the Alaska Region Web site at (http://alaskafisheries.noaa.gov/sustainablefisheries/goarat/default.htm) when they become available after March 1.

Table 7—Proposed 2013 and 2014 Allocations of Rockfish Primary Species in the Central Gulf of Alaska to the Entry Level Longline Fishery and Other Participants in the Rockfish Program
[Values are rounded to the nearest metric ton]
Rockfish primary species | TAC | Incidental catch allowance | TAC minus ICA | Initial allocation to the entry level longline¹ fishery | Other rockfish program participants ² allocation
Pacific ocean perch | 10,985 | 900 | 10,085 | 5 | 10,080
Northern rockfish | 3,136 | 125 | 3,011 | 5 | 3,006
Pelagic shelf rockfish | 3,581 | 125 | 3,456 | 30 | 3,426
Total | 17,702 | 1,150 | 16,552 | 40 | 16,512
¹ Longline gear includes hook-and-line, jig, troll, and handline gear (see 679.2 Definitions: Longline gear).
² Other Rockfish Program participants include vessels in CV and C/P cooperatives.

Section 679.81(c) requires allocations of rockfish secondary species to program participants in the Central GOA. CV cooperatives receive allocations of Pacific cod, sablefish from the trawl gear allocation, and thornyhead rockfish. C/P cooperatives receive allocations of sablefish from the trawl allocation, rougheye rockfish, shortraker rockfish, and thornyhead rockfish. Table 8 lists the apportionments of the proposed 2013 and 2014 TACs of rockfish secondary species in the Central GOA to CV and C/P cooperatives.

Table 8—Proposed 2013 and 2014 Apportionments of Rockfish Secondary Species in the Central GOA to CV and C/P Cooperatives
[Values are in metric tons]
Rockfish secondary species | Central GOA annual TAC | CV cooperatives: Percentage of TAC | CV cooperatives: Apportionment (mt) | C/P cooperatives: Percentage of TAC | C/P cooperatives: Apportionment (mt)
Pacific cod | 44,363 | 3.81 | 1,690 | N/A | N/A
Sablefish | 5,686 | 6.78 | 386 | 3.51 | 200
Shortraker rockfish | 452 | N/A | N/A | 40.00 | 181
Rougheye rockfish | 861 | N/A | N/A | 58.87 | 507
Thornyhead rockfish | 766 | 7.84 | 60 | 26.50 | 203

Proposed Halibut Prohibited Species Catch (PSC) Limits

Section 679.21(d) establishes annual halibut PSC limit apportionments to trawl and hook-and-line gear, and authorizes the establishment of apportionments for pot gear. In October 2012, the Council recommended proposed halibut PSC limits of 1,973 mt for trawl gear and 300 mt for hook-and-line gear for the 2013 and 2014 groundfish fisheries. This is a result of a 27 mt reduction to the halibut PSC apportionment to trawl gear fisheries incorporated in the Rockfish Program (76 FR 81248, December 27, 2011) and specified in Table 28d to 50 CFR part 679. As discussed previously in this preamble, at its June 2012 meeting the Council took action to further reduce the GOA halibut PSC limits. Implementation of those reductions may lead to adjustments or reductions to the 2014 halibut PSC limits proposed in this action at the beginning of 2014.

Ten mt of the 300 mt hook-and-line halibut PSC limit is further allocated to the demersal shelf rockfish (DSR) fishery in the SEO District. The DSR fishery is defined at § 679.21(d)(4)(iii)(A). This fishery has been apportioned 10 mt of the halibut PSC limit in recognition of its small-scale harvests of groundfish. Most vessels in the DSR fishery are less than 60 ft (18.3 m) length overall and have been exempt from observer coverage. Therefore, observer data are not available to verify actual halibut bycatch amounts. NMFS estimates low halibut bycatch in the DSR fishery because (1) the duration of the DSR fisheries and the gear soak times are short, (2) the DSR fishery occurs in the winter when less overlap occurs in the distribution of DSR and halibut, and (3) the directed commercial DSR fishery has a low DSR TAC. The Alaska Department of Fish and Game sets the GHL for the DSR fishery after estimates of DSR incidental catch in all fisheries (including halibut and subsistence) and allocation to the DSR sport fish fishery have been deducted. Of the 293 mt TAC for DSR in 2012, 128 mt were available for the DSR commercial directed fishery, of which 105 mt were harvested.

The FMP authorizes the Council to exempt specific gear from the halibut PSC limit. NMFS, after consultation with the Council, proposes to exempt pot gear, jig gear, and the sablefish IFQ hook-and-line gear fishery categories from the non-trawl halibut PSC limit for 2013 and 2014. The Council recommended and NMFS is proposing these exemptions because: (1) Pot gear fisheries have low annual halibut bycatch mortality (averaging 19 mt annually from 2001 through 2010), (2) IFQ program regulations prohibit discard of halibut if any halibut IFQ permit holder on board a CV holds unused halibut IFQ (§ 679.7(f)(11)), (3) sablefish IFQ fishermen typically hold halibut IFQ permits and are therefore required to retain the halibut they catch while fishing sablefish IFQ, and (4) NMFS estimates negligible halibut mortality for the jig gear fisheries. NMFS estimates halibut mortality is negligible in the jig gear fisheries given the small amount of groundfish harvested by jig gear (averaging 297 mt annually from 2003 through 2011), the selective nature of jig gear, and the high survival rates of halibut caught and released with jig gear.

Section 679.21(d)(5) authorizes NMFS to seasonally apportion the halibut PSC limits after consultation with the Council. The FMP and regulations require that the Council and NMFS consider the following information in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry.

The final 2012 and 2013 harvest specifications (77 FR 15194, March 14, 2012) summarized the Council's and NMFS' findings with respect to halibut PSC for each of these FMP considerations. The Council's and NMFS' findings for 2013 and 2014 are unchanged from 2012, with one exception. As previously mentioned, the total trawl gear PSC limit has been adjusted to 1,973 mt from 2,000 mt. Table 9 lists the proposed 2013 and 2014 Pacific halibut PSC limits, allowances, and apportionments. Section 679.21(d)(5)(iii) and (iv) specify that any underages or overages of a seasonal apportionment of a PSC limit will be deducted from or added to the next respective seasonal apportionment within the fishing year.

Section 679.21(d)(3)(ii) authorizes further apportionment of the trawl halibut PSC limit to trawl fishery categories. The annual apportionments are based on each category's proportional share of the anticipated halibut bycatch mortality during a fishing year and optimization of the total amount of groundfish harvest under the halibut PSC limit. The fishery categories for the trawl halibut PSC limits are (1) a deep-water species category, composed of sablefish, rockfish, deep-water flatfish, rex sole, and arrowtooth flounder; and (2) a shallow-water species category, composed of pollock, Pacific cod, shallow-water flatfish, flathead sole, Atka mackerel, and “other species” (skates, sharks, squids, sculpins, and octopuses) (§ 679.21(d)(3)(iii)). Table 10 lists the proposed 2013 and 2014 seasonal apportionments of trawl halibut PSC limits between the deep-water and the shallow-water species categories. Based on public comment and information presented in the final 2012 SAFE report, the Council may recommend or NMFS may make changes to the seasonal, gear-type, or fishery category apportionments of halibut PSC limits for the final 2013 and 2014 harvest specifications.

Section 679.21(d)(4) requires the “other than DSR” halibut PSC apportionment to vessels using hook-and-line gear must be apportioned between CVs and C/Ps. NMFS must calculate the halibut PSC limit apportionments for the entire GOA to hook-and-line CVs and C/Ps in accordance with § 679.21(d)(4)(iii)(B)(1) and (2) in conjunction with these harvest specifications. A comprehensive description and example of the calculations necessary to apportion the “other than DSR” hook-and-line halibut PSC limit between the hook-and-line CV and C/P sectors were included in the proposed rule to implement Amendment 83 (76 FR 44700, July 26, 2011) and is not repeated here.

For 2013 and 2014, NMFS proposes that hook-and-line CV and hook-and-line C/P sectors receive annual halibut PSC limits of 173 mt and 117 mt, respectively. In addition, these annual limits are divided between three seasonal apportionments, using seasonal percentages of 86 percent, 2 percent, and 12 percent. Table 11 lists the proposed annual limits and seasonal apportionments.

No later than November 1 of each year, NMFS would calculate the projected unused amount of halibut PSC limit by either of the hook-and-line sectors for the remainder of the year. The projected unused amount of halibut PSC limit would be made available to the other hook-and-line sector for the remainder of that fishing year.

Table 11—Proposed 2013 and 2014 Apportionments of the “Other Hook-and-Line Fisheries” Halibut PSC Allowance Between the Hook-and-Line Gear Catcher Vessel and Catcher/Processor Sectors
[Values are in metric tons]
“Other than DSR” allowance | Hook-and-line sector | Percent of annual allowance | Sector annual amount | Season | Seasonal percentage | Sector seasonal amount
290 | Catcher Vessel | 59.69 | 173 | January 1-June 10 June 10-September 1 September 1-December 31 | 86 2 12 | 149 3 21
| Catcher/Processor | 40.31 | 117 | January 1-June 10 June 10-September 1 September 1-December 31 | 86 2 12 | 101 2 14

Estimated Halibut Bycatch in Prior Years

The best available information on estimated halibut bycatch is data collected by fisheries observers during 2012. The calculated halibut bycatch mortality through October 20, 2012, is 1,573 mt for trawl gear, 152 mt for hook-and-line gear, and 38 mt for pot gear for a total halibut mortality of 1,763 mt. This halibut mortality was calculated using groundfish and halibut catch data from the NMFS Alaska Region's catch accounting system. This system contains historical and recent catch information compiled from each Alaska groundfish fishery.

Halibut bycatch restrictions seasonally constrained trawl gear fisheries during the 2012 fishing year. Table 12 displays the closure dates for fisheries that resulted from the attainment of seasonal or annual halibut PSC limits. NMFS does not know the amount of groundfish that trawl gear might have harvested if halibut PSC limits had not restricted some 2012 GOA groundfish fisheries.

Table 12—2012 Fishery Closures Due to Attainment of Pacific Halibut PSC Limits
Fishery category | Opening date | Closure date | Federal Register citation
Trawl Shallow-water, Amendment 80 vessels, season 1 | January 20, 2012 | February 24, 2012 | 77 FR 12213, February 29, 2012.
Trawl Shallow-water,¹ season 1 | January 20, 2012 | March 26, 2012 | 77 FR 19146, March 30, 2012.
Trawl Deep-water,¹ season 2 | April 1, 2012 | April 19, 2012 | 77 FR 24154, April 23, 2012.
Trawl Shallow-water, season 2 | April 1, 2012 | May 31, 2012 | 77 FR 33103, June 5, 2012.
Trawl Shallow-water, season 3 | July 1, 2012 | July 14, 2012 | 77 FR 42193, July 18, 2012.
Trawl Shallow-water,¹ season 4 | September 1, 2012 | September 2, 2012 | 77 FR 54837, September 6, 2012.
Hook-and-line gear, all sectors and targets ² | January 1, 2012 | Remains open.
¹ With the exception of vessels participating in the Central GOA Rockfish Program and vessels fishing for pollock using pelagic trawl gear.
² With the exception of the IFQ sablefish fishery, which is open March 17, 2012, through November 7, 2012.

Current Estimates of Halibut Biomass and Stock Condition

The International Pacific Halibut Commission (IPHC) annually assesses the abundance and potential yield of the Pacific halibut using all available data from the commercial and sport fisheries, other removals, and scientific surveys. Additional information on the Pacific halibut stock assessment may be found in the IPHC's 2011 Pacific halibut stock assessment (December 2011), available on the IPHC Web site at www.iphc.int. The IPHC considered the 2011 Pacific halibut stock assessment for 2012 at its January 2012 annual meeting when it set the 2012 commercial halibut fishery catch limits. The IPHC will consider the 2012 Pacific halibut stock assessment for 2013 at its January 2013 annual meeting when it set the 2013 commercial halibut fishery catch limits.

The halibut resource is fully utilized. Recent catches in the commercial halibut fisheries in Alaska over the last 18 years (1994 through 2011) have averaged 31,535 mt round weight per year. In January 2012, the IPHC recommended Alaska commercial catch limits totaling 15,430 mt round weight for 2012, a 21.5 percent decrease from 19,662 mt in 2011. Through December 31, 2011, commercial hook-and-line harvests of halibut off Alaska totaled 19,140 mt round weight. The IPHC staff recommendations for commercial catch limits continue to be based on applying the Slow Up—Full Down policy of a 33 percent increase from the previous year's catch limits when stock yields are projected to increase, but uses a 100 percent decrease in recommended catch when stock yields are projected to decrease, as was done for the 2011 fishery.

The 2012 commercial halibut catch limits were lower in all Alaska regions except Area 2C. The largest decreases in the 2012 catch limit recommendations for Alaska were for Area 3A, from 8,685 mt round weight in 2011 to 7,208 mt round weight in 2012; for Area 3B, from 4,542 mt in 2011 to 3,066 mt in 2012; for Area 4A, from 1,458 mt in 2011 to 948 mt in 2012; for Area 4B, from 1,318 mt in 2011 to 1,130 mt in 2012; and for combined Areas CDE, from 2,250 mt in 2011 to 1,491 mt in 2012. The only increase in catch limit recommendations in Alaska was for Area 2C, from 1,409 mt round weight in 2011 to 1,587 mt round weight in 2012.

Additional information on the Pacific halibut stock assessment may be found in the IPHC's 2011 Pacific halibut stock assessment (December 2011), available on the IPHC Web site at http://www.iphc.int. The IPHC will consider the 2012 Pacific halibut stock assessment at its January 2013 annual meeting when it will set the 2013 commercial halibut fishery catch limits.

Other Considerations Associated With Halibut PSC

The IPHC determines the allowable directed commercial catch by first accounting for recreational and subsistence catch, waste, and bycatch mortality, and then provides the remainder to the directed fishery. Accordingly, the IPHC will adjust the allowable 2013 commercial catch of halibut to account for the overall halibut PSC limit established for groundfish fisheries. NMFS expects the 2013 GOA groundfish fisheries to use the entire proposed annual halibut PSC limit of 2,273 mt. Methods available for reducing halibut bycatch include (1) consistent monitoring through publication of vessel specific bycatch rates on the NMFS Alaska Region Web site at http://alaskafisheries.noaa.gov, (2) modifications to gear, (3) changes in groundfish fishing seasons, (4) individual transferable quota programs, and (5) time/area closures.

With respect to fishing gear modifications, NMFS has implemented various regulations to address halibut bycatch concerns that are associated with different gear types. The definitions of the various gear types defined at § 679.2 under “Authorized fishing gear” delineate a variety of different requirements and restrictions by gear type. Many of these requirements are intended to decrease or minimize halibut bycatch by pot, trawl, and hook-and-line gear.

For example, groundfish pots must be constructed with biodegradable panels and tunnel openings to reduce halibut bycatch, thereby reducing halibut mortality in the groundfish pot fisheries. Further, the definition of “pelagic trawl gear” includes specific construction parameters and performance characteristics that distinguish it from nonpelagic trawl gear, which is designed for use in proximity to the seafloor. Because halibut bycatch by pelagic trawl gear is minimal, directed fishing for pollock with pelagic trawl gear may continue even when the halibut PSC limit for the shallow-water species fishery is reached (see § 679.21(d)(7)(i)). Finally, all hook-and-line vessel operators are required to employ careful release measures when handling halibut bycatch (§ 679.7(a)(13)). These measures are intended to reduce handling mortality, thereby lowering overall halibut bycatch mortality in the groundfish fisheries, and to increase the amount of groundfish harvested under the available halibut mortality bycatch limits.

The FMP requires that the Council review recent halibut bycatch data and recommend proposed halibut PSC limits in conjunction with developing proposed groundfish harvest levels. NMFS and the Council will review the methods listed here that are available for reducing halibut bycatch to determine their effectiveness and will initiate changes to these PSC limits, as necessary, in response to this review or to public testimony and comment.

Halibut Discard Mortality Rates

To monitor halibut bycatch mortality allowances and apportionments, the Regional Administrator uses observed halibut bycatch rates, discard mortality rates (DMRs), and estimates of groundfish catch to project when a fishery's halibut bycatch mortality allowance or seasonal apportionment is reached. The DMRs are based on the best information available, including information contained in the annual SAFE report.

NMFS proposes that the halibut DMRs developed and recommended by the IPHC and the Council for the 2013-2015 GOA groundfish fisheries be used to monitor the proposed 2013 and 2014 halibut bycatch mortality allowances (see Tables 9-11). The IPHC developed the DMRs for the GOA groundfish fisheries using the 10-year mean DMRs for those fisheries. Long-term average DMRs were not available for some fisheries, so rates from the most recent years were used. For the squid, shark, sculpin, octopus, and skate fisheries, where insufficient mortality data are available, the mortality rate of halibut caught in the Pacific cod fishery for that gear type was recommended as a default rate. The IPHC will analyze observer data annually and recommend changes to the DMRs when a fishery DMR shows large variation from the mean. A discussion of the DMRs and how the IPHC establishes them is available from the Council (see ADDRESSES). Table 13 lists the proposed 2013 and 2014 DMRs.

Table 13—Proposed 2013 and 2014 Halibut Discard Mortality Rates for Vessels Fishing in the Gulf of Alaska
[Values are percent of halibut assumed to be dead]
Gear | Target fishery | Mortality rate (%)
Hook-and-line | Other fisheries ¹ | 11
| Skates | 11
| Pacific cod | 11
| Rockfish | 9
Trawl | Arrowtooth flounder | 73
| Deep-water flatfish | 43
| Flathead sole | 65
| Non-pelagic pollock | 60
| Other fisheries | 62
| Pacific cod | 62
| Pelagic pollock | 71
| Rex sole | 69
| Rockfish | 66
| Sablefish | 71
| Shallow-water flatfish | 67
Pot | Other fisheries | 17
| Pacific cod | 17
¹ Other fisheries includes all gear types for Atka mackerel, sculpins, sharks, skates, squids, octopuses, and hook-and-line sablefish.

Chinook Salmon Prohibited Species Catch Limits

In 2012, NMFS issued a final rule to implement Amendment 93 to the GOA FMP (77 FR 42629, July 20, 2012). Amendment 93 established separate Chinook salmon PSC limits in the Western and Central GOA in the directed pollock fishery. These limits require NMFS to close the pollock directed fishery in the Western and Central regulatory areas of the GOA if the applicable limit is reached (§ 679.21(h)(6)). The annual Chinook salmon PSC limits in the pollock directed fishery of 6,684 salmon in the Western GOA and 18,316 salmon in the Central GOA are set in regulation at § 679.21(h)(2)(i) and (ii). In addition, all salmon (regardless of species), taken in the pollock directed fisheries in the Western and Central GOA must be retained until an observer at the processing facility that takes delivery of the catch is provided an opportunity to count the number of salmon and to collect any scientific data or biological samples from the salmon (§ 679.21(h)(4)).

American Fisheries Act (AFA) Catcher/Processor and Catcher Vessel Groundfish Sideboard Limits

Section 679.64 establishes groundfish harvesting and processing sideboard limits on AFA C/Ps and CVs in the GOA. These sideboard limits are necessary to protect the interests of fishermen and processors who do not directly benefit from the AFA from those fishermen and processors who receive exclusive harvesting and processing privileges under the AFA. Section 679.7(k)(1)(ii) prohibits listed AFA C/Ps from harvesting any species of fish in the GOA. Additionally, § 679.7(k)(1)(iv) prohibits listed AFA C/Ps from processing any pollock harvested in a directed pollock fishery in the GOA and any groundfish harvested in Statistical Area 630 of the GOA.

AFA CVs that are less than 125 ft (38.1 meters) length overall, have annual landings of pollock in the Bering Sea and Aleutian Islands of less than 5,100 mt, and have made at least 40 landings of GOA groundfish from 1995 through 1997 are exempt from GOA sideboard limits under § 679.64(b)(2)(ii). Sideboard limits for non-exempt AFA CVs operating in the GOA are based on their traditional harvest levels of TAC in groundfish fisheries covered by the FMP. Section 679.64(b)(3)(iii) establishes the groundfish sideboard limitations in the GOA based on the retained catch of non-exempt AFA CVs of each sideboard species from 1995 through 1997 divided by the TAC for that species over the same period.

Table 14 lists the proposed 2013 and 2014 groundfish sideboard limits for non-exempt AFA CVs. NMFS will deduct all targeted or incidental catch of sideboard species made by non-exempt AFA CVs from the sideboard limits listed in Table 14.

Table 14—Proposed 2013 and 2014 GOA Non-Exempt American Fisheries Act Catcher Vessel (CV) Groundfish Harvest Sideboard Limits
[Values are rounded to the nearest metric ton]
Species | Apportionments by season/gear | Area/component | Ratio of 1995-1997 non-exempt AFA CV catch to 1995-1997 TAC | Proposed 2013 and 2014 TACs | Proposed 2013 and 2014 non-exempt AFA CV sideboard limit
Pollock | A Season—January 20-March 10 | Shumagin (610) | 0.6047 | 6,285 | 3,801
|  | Chirikof (620) | 0.1167 | 15,202 | 1,774
|  | Kodiak (630) | 0.2028 | 6,274 | 1,272
| B Season—March 10-May 31 | Shumagin (610) | 0.6047 | 6,285 | 3,801
|  | Chirikof (620) | 0.1167 | 18,668 | 2,179
|  | Kodiak (630) | 0.2028 | 2,806 | 569
| C Season—August 25-October 1 | Shumagin (610) | 0.6047 | 10,123 | 6,121
|  | Chirikof (620) | 0.1167 | 7,896 | 921
|  | Kodiak (630) | 0.2028 | 9,743 | 1,976
| D Season—October 1-November 1 | Shumagin (610) | 0.6047 | 10,123 | 6,121
|  | Chirikof (620) | 0.1167 | 7,896 | 921
|  | Kodiak (630) | 0.2028 | 9,743 | 1,976
| Annual | WYK (640) | 0.3495 | 3,517 | 1,229
|  | SEO (650) | 0.3495 | 10,774 | 3,766
Pacific cod | A Season ¹—January 1-June 10 | W C | 0.1331 0.0692 | 13,104 26,618 | 1,744 1,842
| B Season) ²—September 1-December 31 | W C | 0.1331 0.0692 | 8,736 17,745 | 1,163 1,228
| Annual | E inshore E offshore | 0.0079 0.0078 | 1,842 205 | 15 2
Sablefish | Annual, trawl gear | W | 0.0000 | 351 | 0
|  | C | 0.0642 | 1,137 | 73
|  | E | 0.0433 | 268 | 12
Flatfish, shallow-water | Annual | W | 0.0156 | 13,250 | 207
|  | C | 0.0587 | 18,000 | 1,057
|  | E | 0.0126 | 5,300 | 67
Flatfish, deep-water | Annual | W | 0.0000 | 176 | 0
|  | C | 0.0647 | 2,308 | 149
|  | E | 0.0128 | 2,642 | 34
Rex sole | Annual | W | 0.0007 | 1,283 | 1
|  | C | 0.0384 | 6,291 | 242
|  | E | 0.0029 | 1,858 | 5
Arrowtooth flounder | Annual | W | 0.0021 | 14,500 | 30
|  | C | 0.0280 | 75,000 | 2,100
|  | E | 0.0002 | 13,800 | 3
Flathead sole | Annual | W | 0.0036 | 8,650 | 31
|  | C | 0.0213 | 15,400 | 328
|  | E | 0.0009 | 6,358 | 6
Pacific ocean perch | Annual | W | 0.0023 | 2,050 | 5
|  | C | 0.0748 | 10,985 | 822
|  | E | 0.0466 | 3,465 | 161
Northern rockfish | Annual | W | 0.0003 | 2,017 | 1
|  | C | 0.0277 | 3,136 | 87
Shortraker rockfish | Annual | W | 0.0000 | 104 | 0
|  | C | 0.0218 | 452 | 10
|  | E | 0.0110 | 525 | 6
Other rockfish | Annual | W | 0.0034 | 44 | 0
|  | C | 0.1699 | 606 | 103
|  | E | 0.0000 | 430 | 0
Pelagic shelf rockfish | Annual | W | 0.0001 | 381 | 0
|  | C | 0.0000 | 3,581 | 0
|  | E | 0.0067 | 800 | 5
Rougheye rockfish | Annual | W | 0.0000 | 82 | 0
|  | C | 0.0237 | 861 | 20
|  | E | 0.0124 | 297 | 4
Demersal shelf rockfish | Annual | SEO | 0.0020 | 293 | 1
Thornyhead rockfish | Annual | W | 0.0280 | 150 | 4
|  | C | 0.0280 | 766 | 21
|  | E | 0.0280 | 749 | 21
Atka mackerel | Annual | Gulfwide | 0.0309 | 2,000 | 62
Big skates | Annual | W | 0.0063 | 469 | 3
|  | C | 0.0063 | 1,793 | 11
|  | E | 0.0063 | 1,505 | 9
Longnose skates | Annual | W | 0.0063 | 70 | 0
|  | C | 0.0063 | 1,879 | 12
|  | E | 0.0063 | 676 | 4
Other skates | Annual | Gulfwide | 0.0063 | 2,030 | 13
Squids | Annual | Gulfwide | 0.0063 | 1,148 | 7
Sharks | Annual | Gulfwide | 0.0063 | 6,028 | 38
Octopuses | Annual | Gulfwide | 0.0063 | 1,455 | 9
Sculpins | Annual | Gulfwide | 0.0063 | 5,731 | 36
¹ The Pacific cod A season for trawl gear does not open until January 20.
² The Pacific cod B season for trawl gear closes November 1.

Non-Exempt AFA Catcher Vessel Halibut PSC Limits

The halibut PSC sideboard limits for non-exempt AFA CVs in the GOA are based on the aggregate retained groundfish catch by non-exempt AFA CVs in each PSC target category from 1995 through 1997 divided by the retained catch of all vessels in that fishery from 1995 through 1997 (§ 679.64(b)(4)). Table 15 lists the proposed 2013 and 2014 non-exempt AFA CV halibut PSC limits for vessels using trawl gear in the GOA.

Table 15—Proposed 2013 and 2014 Non-Exempt American Fisheries Act Catcher Vessel Halibut Prohibited Species Catch (PSC) Limits for Vessels Using Trawl Gear in the GOA
[PSC limits are rounded to the nearest whole metric ton]
Season | Season dates | Target fishery | Ratio of 1995-1997 non-exempt AFA CV retained catch to total retained catch | Proposed 2013 and 2014 PSC limit | Proposed 2013 and 2014 non-exempt AFA CV PSC limit
1 | January 20-April 1 | shallow-water deep-water | 0.340 0.070 | 444 99 | 151 7
2 | April 1-July 1 | shallow-water deep-water | 0.340 0.070 | 99 296 | 34 21
3 | July 1-September 1 | shallow-water deep-water | 0.340 0.070 | 197 395 | 67 28
4 | September 1-October 1 | shallow-water deep-water | 0.340 0.070 | 148 0 | 50 0
5 | October 1-December 31 | all targets | 0.205 | 296 | 61

Non-AFA Crab Vessel Groundfish Sideboard Limits

Section 680.22 establishes groundfish catch limits for vessels with a history of participation in the Bering Sea snow crab fishery to prevent these vessels from using the increased flexibility provided by the Crab Rationalization Program to expand their level of participation in the GOA groundfish fisheries. Sideboard limits restrict these vessels' catch to their collective historical landings in all GOA groundfish fisheries (except the fixed-gear sablefish fishery). Sideboard limits also apply to landings made using an LLP license derived from the history of a vessel with sideboard limits, even if that license is used on another vessel.

The basis for these sideboard limits is described in detail in the final rules implementing the major provisions of the Allocation of Bering Sea and Aleutian Islands King and Tanner Crab Fishery Resources (707 FR 10174, March 2, 2005), Amendment 34 to the Fishery Management Plan for Bering Sea/Aleutian Island King and Tanner Crabs, and Amendment 83 (76 FR 74670, December 1, 2011).

Table 16 lists these proposed 2013 and 2014 groundfish sideboard limitations for non-AFA crab vessels. All targeted or incidental catch of sideboard species made by non-AFA crab vessels or associated LLP licenses will be deducted from these sideboard limits.

Table 16—Proposed 2013 and 2014 GOA Non-American Fisheries Act Crab Vessel Groundfish Harvest Sideboard Limits
[Values are rounded to the nearest metric ton]
Species | Season/gear | Area/component/gear | Ratio of 1996-2000 non-AFA crab vessel catch to 1996-2000 total harvest | Proposed 2013 and 2014 TACs | Proposed 2013 and 2014 non-AFA crab vessel sideboard limit
Pollock | A Season—January 20-March 10 | Shumagin (610) | 0.0098 | 6,285 | 62
|  | Chirikof (620) | 0.0031 | 15,202 | 47
|  | Kodiak (630) | 0.0002 | 6,274 | 1
| B Season—March 10-May 31 | Shumagin (610) | 0.0098 | 6,285 | 62
|  | Chirikof (620) | 0.0031 | 18,668 | 58
|  | Kodiak (630) | 0.0002 | 2,806 | 1
| C Season—August 25-October 1 | Shumagin (610) | 0.0098 | 10,123 | 99
|  | Chirikof (620) | 0.0031 | 7,896 | 24
|  | Kodiak (630) | 0.0002 | 9,743 | 2
| D Season—October 1-November 1 | Shumagin (610) | 0.0098 | 10,123 | 99
|  | Chirikof (620) | 0.0031 | 7,896 | 24
|  | Kodiak (630) | 0.0002 | 9,743 | 2
| Annual | WYK (640) | 0.0000 | 3,517 | 0
|  | SEO (650) | 0.0000 | 10,774 | 0
Pacific cod | A Season ¹—January 1-June 10 | W Jig CV | 0.0000 | 13,104 | 0
|  | W Hook-and-line CV | 0.0004 | 13,104 | 5
| January 1-June 10 | W Hook-and-line C/P | 0.0018 | 13,104 | 24
|  | W Pot CV | 0.0997 | 13,104 | 1,306
|  | W Pot C/P | 0.0078 | 13,104 | 102
|  | W Trawl CV | 0.0007 | 13,104 | 9
|  | C Jig CV | 0.0000 | 26,618 | 0
|  | C Hook-and-line CV | 0.0001 | 26,618 | 3
|  | C Hook-and-line C/P | 0.0012 | 26,618 | 32
|  | C Pot CV | 0.0474 | 26,618 | 1,262
|  | C Pot C/P | 0.0136 | 26,618 | 362
|  | C Trawl CV | 0.0012 | 26,618 | 32
| B Season ²—September 1-December 31 | W Jig CV | 0.0000 | 8,736 | 0
|  | W Hook-and-line CV | 0.0004 | 8,736 | 3
|  | W Hook-and-line C/P | 0.0018 | 8,736 | 16
|  | W Pot CV | 0.0997 | 8,736 | 871
|  | W Pot C/P | 0.0078 | 8,736 | 68
|  | W Trawl CV | 0.0007 | 8,736 | 6
|  | C Jig CV | 0.0000 | 17,745 | 0
|  | C Hook-and-line CV | 0.0001 | 17,745 | 2
|  | C Hook-and-line C/P | 0.0012 | 17,745 | 21
|  | C Pot CV | 0.0474 | 17,745 | 841
|  | C Pot C/P | 0.0136 | 17,745 | 241
|  | C Trawl CV | 0.0012 | 17,745 | 21
| Annual | E inshore | 0.0110 | 1,842 | 20
|  | E offshore | 0.0000 | 205 | 0
Sablefish | Annual, trawl gear | W | 0.0000 | 351 | 0
|  | C | 0.0000 | 1,137 | 0
|  | E | 0.0000 | 268 | 0
Flatfish, shallow-water | Annual | W | 0.0059 | 13,250 | 78
|  | C | 0.0001 | 18,000 | 2
|  | E | 0.0000 | 5,300 | 0
Flatfish, deep-water | Annual | W | 0.0035 | 176 | 1
|  | C | 0.0000 | 2,308 | 0
|  | E | 0.0000 | 2,642 | 0
Rex sole | Annual | W | 0.0000 | 1,283 | 0
|  | C | 0.0000 | 6,291 | 0
|  | E | 0.0000 | 1,858 | 0
Arrowtooth flounder | Annual | W | 0.0004 | 14,500 | 6
|  | C | 0.0001 | 75,000 | 8
|  | E | 0.0000 | 13,800 | 0
Flathead sole | Annual | W | 0.0002 | 8,650 | 2
|  | C | 0.0004 | 15,400 | 6
|  | E | 0.0000 | 6,358 | 0
Pacific ocean perch | Annual | W | 0.0000 | 2,050 | 0
|  | C | 0.0000 | 10,985 | 0
|  | E | 0.0000 | 3,465 | 0
Northern rockfish | Annual | W | 0.0005 | 2,017 | 1
|  | C | 0.0000 | 3,136 | 0
Shortraker rockfish | Annual | W | 0.0013 | 104 | 0
|  | C | 0.0012 | 452 | 1
|  | E | 0.0009 | 525 | 0
Other rockfish | Annual | W | 0.0035 | 44 | 0
|  | C | 0.0033 | 606 | 2
|  | E | 0.0000 | 430 | 0
Pelagic shelf rockfish | Annual | W | 0.0017 | 381 | 1
|  | C | 0.0000 | 3,581 | 0
|  | E | 0.0000 | 800 | 0
Rougheye rockfish | Annual | W | 0.0067 | 82 | 1
|  | C | 0.0047 | 861 | 4
|  | E | 0.0008 | 297 | 0
Demersal shelf rockfish | Annual | SEO | 0.0000 | 293 | 0
Thornyhead rockfish | Annual | W | 0.0047 | 150 | 1
|  | C | 0.0066 | 766 | 5
|  | E | 0.0045 | 749 | 3
Atka mackerel | Annual | Gulfwide | 0.0000 | 2,000 | 0
Big skate | Annual | W | 0.0392 | 469 | 18
|  | C | 0.0159 | 1,793 | 29
|  | E | 0.0000 | 1,505 | 0
Longnose skate | Annual | W | 0.0392 | 70 | 3
|  | C | 0.0159 | 1,879 | 30
|  | E | 0.0000 | 676 | 0
Other skates | Annual | Gulfwide | 0.0176 | 2,030 | 36
Sharks | Annual | Gulfwide | 0.0176 | 1,148 | 20
Squids | Annual | Gulfwide | 0.0176 | 6,028 | 106
Octopuses | Annual | Gulfwide | 0.0176 | 1,455 | 26
Sculpins | Annual | Gulfwide | 0.0176 | 5,731 | 101
¹ The Pacific cod A season for trawl gear does not open until January 20.
² The Pacific cod B season for trawl gear closes November 1.

Rockfish Program Groundfish Sideboard and Halibut PSC Limitations

The Rockfish Program establishes three classes of sideboard provisions: CV groundfish sideboard restrictions, C/P rockfish sideboard restrictions, and C/P opt-out vessel sideboard restrictions. These sideboards are intended to limit the ability of rockfish harvesters to expand into other fisheries.

CVs participating in the Rockfish Program may not participate in directed fishing for northern rockfish, Pacific ocean perch, and pelagic shelf rockfish (dusky rockfish) in the Western GOA and West Yakutat Districts from July 1 through July 31. Also, CVs may not participate in directed fishing for arrowtooth flounder, deep-water flatfish, and rex sole in the GOA from July 1 through July 31 (§ 679.82(d)).

C/Ps participating in Rockfish Program cooperatives are restricted by rockfish and halibut PSC sideboard limitations. These C/Ps are prohibited from directed fishing for northern rockfish, Pacific ocean perch, and pelagic shelf rockfish (dusky rockfish) in the Western GOA and West Yakutat District from July 1 through July 31. Holders of C/P-designated LLP licenses that opt-out of participating in a rockfish cooperative will receive the portion of each sideboard limit that is not assigned to rockfish cooperatives. Table 17 lists the proposed 2013 and 2014 Rockfish Program C/P sideboard limits in the Western GOA and West Yakutat District. Due to confidentiality requirements associated with fisheries data, the sideboard limits for the West Yakutat District are not displayed.

Table 17—Proposed 2013 and 2014 Rockfish Program Harvest Limits for the West Yakutat District and Western GOA by Fishery for the Catcher/Processor Sector
[Values are rounded to the nearest metric ton]
Area | Fishery | C/P sector (% of TAC) | Proposed 2013 and 2014 TACs | Proposed 2013 and 2014 C/P limit
Western GOA | Pelagic shelf rockfish | 72.3 | 381 | 275
| Pacific ocean perch | 50.6 | 2,050 | 1,037
| Northern rockfish | 74.3 | 2,017 | 1,499
West Yakutat District | Pelagic shelf rockfish | Confid.¹ | 504 | N/A
| Pacific ocean perch | Confid.¹ | 1,650 | N/A
¹ Not released due to confidentiality requirements associated with fish ticket data established by NMFS and the State of Alaska.

The C/P sector is subject to halibut PSC sideboard limits for the trawl deep-water and shallow-water species fisheries from July 1 through July 31. No halibut PSC sideboard limits apply to the CV sector. C/Ps that opt-out of the Rockfish Program would be able to access that portion of the deep-water and shallow-water halibut PSC sideboard limit not assigned to C/P rockfish cooperatives. The sideboard provisions for C/Ps that elect to opt-out of participating in a rockfish cooperative are described in § 679.82(c), (e), and (f). Sideboards are linked to the catch history of specific vessels that may choose to opt-out. The applications for C/Ps electing to opt-out are due to NMFS on March 1 of each calendar year, thereby preventing NMFS from calculating proposed 2013 and 2014 allocations. Once opt-out applications (if any) are received in 2013, the ratios and amounts used to calculate opt-out sideboard ratios will be known. NMFS will then calculate any applicable opt-out sideboards and post these allocations on the Alaska Region Web site at http://alaskafisheries.noaa.gov/sustainablefisheries/goarat/default.htm) when they have been prepared.

Table 18 lists the 2013 and 2014 proposed Rockfish Program halibut PSC limits for the C/P sector.

Table 18—Proposed 2013 and 2014 Rockfish Program Halibut Mortality Limits for the Catcher/Processor Sector
[Values are rounded to the nearest metric ton]
Sector | Shallow-water species fishery halibut PSC sideboard ratio (percent) | Deep-water species fishery halibut PSC sideboard ratio (percent) | Annual halibut mortality limit (mt) | Annual shallow-water species fishery halibut PSC sideboard limit (mt) | Annual deep-water species fishery halibut PSC sideboard limit (mt)
Catcher/processor | 0.10 | 2.50 | 1,973 | 2 | 49

Amendment 80 Vessel Program Groundfish Sideboard and PSC Limits

Amendment 80 to the Fishery Management Plan for Groundfish of the Bering Sea and Aleutian Islands Management Area (Amendment 80 Program) established a limited access privilege program for the non-AFA trawl C/P sector. To limit the ability of participants eligible for the Amendment 80 Program to expand their harvest efforts in the GOA, the Amendment 80 Program established groundfish and halibut PSC limits for Amendment 80 Program participants.

Section 679.92 establishes groundfish harvesting sideboard limits on all Amendment 80 Program vessels, other than the F/V Golden Fleece, to amounts no greater than the limits shown in Table 37 to part 679. Under regulations at § 679.92(d), the F/V Golden Fleece is prohibited from directed fishing for pollock, Pacific cod, Pacific ocean perch, pelagic shelf rockfish, and northern rockfish in the GOA.

Groundfish sideboard limits for Amendment 80 Program vessels operating in the GOA are based on their average aggregate harvests from 1998 to 2004. Table 19 lists the proposed 2013 and 2014 sideboard limits for Amendment 80 Program vessels. All targeted or incidental catch of sideboard species made by Amendment 80 Program vessels will be deducted from the sideboard limits in Table 19.

Table 19—Proposed 2013 and 2014 GOA Groundfish Sideboard Limits for Amendment 80 Program Vessels
[Values are rounded to the nearest metric ton]
Species | Season | Area | Ratio of Amendment 80 sector vessels 1998-2004 catch to TAC | Proposed 2013 and 2014 TAC (mt) | Proposed 2013 and 2014 Amendment 80 vessel sideboards (mt)
Pollock | A Season—January 20-February 25 | Shumagin (610) | 0.003 | 6,285 | 19
|  | Chirikof (620) | 0.002 | 15,202 | 30
|  | Kodiak (630) | 0.002 | 6,274 | 13
| B Season—March 20-May 31 | Shumagin (610) | 0.003 | 6,285 | 19
|  | Chirikof (620) | 0.002 | 18,668 | 37
|  | Kodiak (630) | 0.002 | 2,806 | 6
| C Season—August 25-September 15 | Shumagin (610) | 0.003 | 10,123 | 30
|  | Chirikof (620) | 0.002 | 7,896 | 16
|  | Kodiak (630) | 0.002 | 9,743 | 19
| D Season—October 1-November 1 | Shumagin (610) | 0.003 | 10,123 | 30
|  | Chirikof (620) | 0.002 | 7,896 | 16
|  | Kodiak (630) | 0.002 | 9,743 | 19
| Annual | WYK (640) | 0.002 | 3,517 | 7
Pacific cod | A Season ¹—January 1-June 10 | W | 0.020 | 13,104 | 262
|  | C | 0.044 | 26,618 | 1,171
| B Season ²—September 1-December 31 | W | 0.020 | 8,736 | 175
|  | C | 0.044 | 17,745 | 781
| Annual | WYK | 0.034 | 2,047 | 70
Pacific ocean perch | Annual | W | 0.994 | 2,050 | 2,038
|  | WYK | 0.961 | 1,650 | 1,586
Northern rockfish | Annual | W | 1.000 | 2,017 | 2,017
Pelagic shelf rockfish | Annual | W | 0.764 | 381 | 291
|  | WYK | 0.896 | 504 | 452
¹ The Pacific cod A season for trawl gear does not open until January 20.
² The Pacific cod B season for trawl gear closes November 1.

The PSC sideboard limits for Amendment 80 Program vessels in the GOA are based on the historic use of halibut PSC by Amendment 80 Program vessels in each PSC target category from 1998 through 2004. These values are slightly lower than the average historic use to accommodate two factors: allocation of halibut PSC cooperative quota under the Central GOA Rockfish Program and the exemption of the F/V Golden Fleece from this restriction. Table 20 lists the proposed 2013 and 2014 halibut PSC limits for Amendment 80 Program vessels, as contained in Table 38 to 50 CFR part 679.

Table 20—Proposed 2013 and 2014 Halibut PSC Sideboard Limits for Amendment 80 Program Vessels in the GOA
[Values are rounded to the nearest metric ton]
Season | Season dates | Fishery category | Historic Amendment 80 use of the annual halibut PSC limit (ratio) | Proposed 2013 and 2014 annual PSC limit (mt) | Proposed 2013 and 2014 Amendment 80 vessel PSC sideboard limit (mt)
1 | January 20-April 1 | shallow-water | 0.0048 | 1,973 | 9
|  | deep-water | 0.0115 | 1,973 | 23
2 | April 1-July 1 | shallow-water | 0.0189 | 1,973 | 37
|  | deep-water | 0.1072 | 1,973 | 212
3 | July 1-September 1 | shallow-water | 0.0146 | 1,973 | 29
|  | deep-water | 0.0521 | 1,973 | 103
4 | September 1-October 1 | shallow-water | 0.0074 | 1,973 | 15
|  | deep-water | 0.0014 | 1,973 | 3
5 | October 1-December 31 | shallow-water | 0.0227 | 1,973 | 45
|  | deep-water | 0.0371 | 1,973 | 73

Classification

NMFS has determined that the proposed harvest specifications are consistent with the FMP and preliminarily determined that the proposed harvest specifications are consistent with the Magnuson-Stevens Act and other applicable laws.

This action is authorized under 50 CFR 679.20 and is exempt from review under Executive Order 12866.

NMFS prepared an EIS for this action (see ADDRESSES) and made it available to the public on January 12, 2007 (72 FR 1512). On February 13, 2007, NMFS issued the Record of Decision (ROD) for the EIS. Copies of the EIS and ROD for this action are available from NMFS. The EIS analyzes the environmental consequences of the proposed groundfish harvest specifications and its alternatives on resources in the action area. The EIS found no significant environmental consequences from the proposed action or its alternatives.

NMFS prepared an Initial Regulatory Flexibility Analysis (IRFA) as required by section 603 of the Regulatory Flexibility Act, analyzing the methodology for establishing the relevant TACs. The IRFA evaluated the impacts on small entities of alternative harvest strategies for the groundfish fisheries in the EEZ off Alaska. As set forth in the methodology, TACs are set to a level that fall within the range of ABCs recommended by the SSC; the sum of the TACs must achieve the OY specified in the FMP. While the specific numbers that the methodology may produce vary from year to year, the methodology itself remains constant.

A description of the proposed action, why it is being considered, and the legal basis for this proposed action are contained in the preamble above. A copy of the analysis is available from NMFS (see ADDRESSES). A summary of the IRFA follows.

The action under consideration is a harvest strategy to govern the catch of groundfish in the GOA. The preferred alternative is the existing harvest strategy in which TACs fall within the range of ABCs recommended by the SSC. This action is taken in accordance with the FMP prepared by the Council pursuant to the Magnuson-Stevens Act.

The directly regulated small entities include approximately 1,002 CVs and approximately 6 C/Ps in the GOA. The entities directly regulated by this action are those that harvest groundfish in the EEZ of the GOA and in parallel fisheries within State waters. These include entities operating CVs and C/Ps within the action area and entities receiving direct allocations of groundfish. CVs and C/Ps are considered to be small entities if they have annual gross receipts of $4 million per year or less from all economic activities, including the revenue of their affiliated operations (see Table 37 to the Economic Status of the Groundfish off Alaska, 2011, in the 2011 SAFE report, dated November 2011, available from the Council (see ADDRESSES)). Because the 1,002 CVs and 6 C/Ps meet this size standard, they are considered to be small entities for the purposes of this analysis.

The preferred alternative (Alternative 2) was compared to four other alternatives. Alternative 1 would have set TACs to generate fishing rates equal to the maximum permissible ABC (if the full TAC were harvested), unless the sum of TACs exceeded the GOA OY, in which case harvests would be limited to the OY. Alternative 3 would have set TACs to produce fishing rates equal to the most recent 5-year average fishing rate. Alternative 4 would have set TACs to equal the lower limit of the GOA OY range. Alternative 5, the “no action alternative,” would have set TACs equal to zero.

The TACs associated with the preferred harvest strategy are those adopted by the Council in October 2012, as per Alternative 2. OFLs and ABCs for the species were based on recommendations prepared by the Council's GOA Plan Team in September 2012, and reviewed and modified by the Council's SSC in October 2012. The Council based its TAC recommendations on those of its AP, which were consistent with the SSC's OFL and ABC recommendations.

Alternative 1 selects harvest rates that would allow fishermen to harvest stocks at the level of ABCs, unless total harvests were constrained by the upper bound of the GOA OY of 800,000 mt. As shown in Table 1 of the preamble, the sum of ABCs in 2013 and 2014 would be about 612,506 mt, which falls below the upper bound of the OY range. The sum of TACs is 447,752 mt, which is less than the sum of ABCs. In this instance, Alternative 1 is consistent with the preferred alternative (Alternative 2), meets the objectives of that action, and has small entity impacts that are equivalent to the preferred alternative. In some instances, the selection of Alternative 1 would not reflect the practical implications that increased TACs (where the sum of TACs equals the sum of ABCs) for some species probably would not be fully harvested. This could be due to a lack of commercial or market interest in such species. Additionally, an underharvest of some TACs could result due to constraints such as the fixed, and therefore constraining, PSC limits associated with the harvest of the GOA groundfish species.

Alternative 3 selects harvest rates based on the most recent 5 years of harvest rates (for species in Tiers 1 through 3) or for the most recent 5 years of harvests (for species in Tiers 4 through 6). This alternative is inconsistent with the objectives of this action, the Council's preferred harvest strategy, because it does not take account of the most recent biological information for this fishery. Harvest rates are listed for each species category for each year in the SAFE report (see ADDRESSES).

Alternative 4 reduces the TACs from the upper end of the OY range in the GOA, to its lower end of 116,000 mt, which would lead to significantly lower harvests of all species. Overall, this would reduce 2013 TACs by about 74 percent. This would lead to significant reductions in harvests of species harvested by small entities. While reductions of this size would be associated with offsetting price increases, the size of these increases is very uncertain. There are close substitutes for GOA groundfish species available in significant quantities from the Bering Sea and Aleutian Islands management area. While production declines in the GOA would undoubtedly be associated with significant price increases in the GOA, these increases would still be constrained by production of substitutes, and are very unlikely to offset revenue declines from smaller production. Thus, this alternative would have a detrimental impact on small entities.

Alternative 5, which sets all harvests equal to zero, would have a significant adverse economic impact on small entities and would be contrary to obligations to achieve OY on a continuing basis, as mandated by the Magnuson-Stevens Act.

The IRFA shows that, in 2011, there were 1,049 individual catcher vessels with gross revenues less than or equal to $4 million. Some of these vessels are members of AFA inshore pollock cooperatives, GOA rockfish cooperatives, or BSAI crab rationalization cooperatives. Therefore, under the RFA, it is the aggregate gross receipts of all participating members of the cooperative that must meet the “under $4 million” threshold. Vessels that participate in these cooperatives are considered to be large entities within the meaning of the RFA. After accounting for membership in these cooperatives, there are an estimated 1,002 small catcher vessel entities remaining in the GOA groundfish sector. This latter group of small vessels had average gross revenues of about $485,000, and median gross revenues of $230,000. The 25th percentile of gross revenues was about $79,000, and the 75th percentile was about $661,000. Under Alternative 5, all 1,049 individual catcher vessels impacted by this rule would have gross revenues of $0.

Data presented in the IRFA indicates that in 2011, 9 catcher/processors grossed less than $4 million. Three vessels in this group were estimated to be large entities because of their affiliations with other vessels through an Amendment 80 cooperative and the Freezer Longline Conservation Cooperative. After taking account of these affiliations, NMFS estimates that six of these vessels are small entities. The average gross revenue for these 6 small catcher/processor entities was $1.17 million, and the median gross revenue was $960,000. Under Alternative 5, the 6 small catcher/processor impacted by this rule would have gross revenues of $0.

The proposed harvest specifications extend the current 2013 OFLs, ABCs, and TACs to 2013 and 2014. As noted in the IRFA, the Council may modify these OFLs, ABCs, and TACs in December 2012, when it reviews the November 2012 SAFE reports from its groundfish plan teams, and the December 2012 Council meeting reports of its SSC and AP. Because TACs in the proposed 2013 and 2014 harvest specifications are unchanged from the 2013 TACs, NMFS does not expect adverse impacts on small entities. Also, NMFS does not expect any changes made by the Council in December 2012 to have significant adverse impacts on small entities.

This action does not modify recordkeeping or reporting requirements, or duplicate, overlap, or conflict with any Federal rules.

Adverse impacts on marine mammals or endangered species resulting from fishing activities conducted under this rule are discussed in the EIS and its accompanying annual SIRs (see ADDRESSES).

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: November 28, 2012.
Alan D. Risenhoover,
Director, Office of Sustainable Fisheries, Performing the Functions and Duties of the Deputy Assistant Administrator for Regulatory Programs, National Marine Fisheries Service.

[FR Doc. 2012-29137 Filed 12-4-12; 8:45 am]

BILLING CODE 3510-22-P